DEPARTMENT OF HEALTH AND HUMAN SERVICES

Centers for Medicare and Medicaid Services

[Document Identifier: CMS-10137]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with an initiative of the Administration. We cannot reasonably comply with the normal clearance procedures because the use of normal clearance procedures is reasonably likely to cause a statutory deadline to be missed.

For the 2008 contract year, CMS is taking several steps to reduce the person-hours necessary to complete the Part D solicitations. These steps include automating the majority of the Part D and Employer Group Waiver Plan solicitations within CMS' Health Plan Management System (HPMS), incorporating the Pharmacy Access Submission document into the underlying Part D solicitation, and streamlining key information that was previously requested by attachments into attestations in time to qualify applicants prior to the first Monday in June of 2006.

1. Type of Information Collection Request: Revision of a currently approved collection.

Title of Information Collection: Application for Prescription Drug Plans (PDP); Application for Medicare Advantage Prescription Drug (MA-PD); Application for Cost Plans to Offer Qualified Prescription Drug Coverage; Application for Employer Group Waiver Plans to Offer Prescription Drug Coverage; Service Area Expansion Application for Prescription Drug Coverage.

Form Number: CMS-10137 (OMB#: 0938-0936).

Use: Collection of this information is mandated in Part D of the Medicare Prescription Drug, Improvement, and Modernization Act of 2003. Coverage for the prescription drug benefit is provided through prescription drug plans (PDP's) that offer drug-only coverage, or through Medicare Advantage organizations that offer integrated prescription drug and health care coverage. PDPs must offer a basic drug benefit. Medicare Advantage Coordinated Care Plans must offer either a basic benefit or may offer broader coverage for no additional cost. Medicare Advantage Private Fee for Service Plans may choose to offer a Part D benefit. Cost Plans that are regulated under Section 1876 of the Social Security Act, and Employer Group Plans may also provide a Part D benefit. If any of the contracting organizations meet basic requirements, they may also offer supplemental benefits through enhanced alternative coverage for an additional premium. This collection will be used by CMS to: (1) Insure that applicants meet CMS requirements and (2) support the determination of contract awards.

Frequency: Reporting—Once.

Affected Public: Business or other for-profit and Not-for-profit institutions

Number of Respondents: 216.

Total Annual Responses: 216.

Total Annual Hours: 5,316.

CMS is requesting OMB review and approval of this collection by December 15, 2006, with a 180-day approval period. Written comments and recommendation will be considered from the public if received by the individuals designated below by December 1, 2006.

To obtain copies of the supporting statement and any related forms for the proposed paperwork collections referenced above, access CMS's Web Site address at http://www.cms.hhs.gov/PaperworkReductionActof1995 or E-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by December 1, 2006: Centers for Medicare and Medicaid Services, Office of Strategic Operations and Regulatory Affairs, Room C4-26-05, 7500 Security Boulevard, Baltimore, MD 21244-1850, Attn: Bonnie L Harkless, and, OMB Human Resources and Housing Branch, Attention: Carolyn Lovett, New Executive Office Building, Room 10235, Washington, DC 20503, Fax Number: (202) 395-6974.

November 9, 2006.
Michelle Shortt,
Director, Regulations Development Group, Office of Strategic Operations and Regulatory Affairs.

[FR Doc. E6-19428 Filed 11-16-06; 8:45 am]

BILLING CODE 4120-01-P